DEPARTMENT OF LABOR

Employment and Training Administration

[TA-W-64,450]

Weather Shield Manufacturing, Inc., Medford, WI; Notice of Termination of Investigation

Pursuant to Section 221 of the Trade Act of 1974, as amended, an investigation was initiated on November 17, 2008 in response to a petition filed on behalf of the workers at Weather Shield Manufacturing, Inc., Medford, Wisconsin.

The worker petition submitted did not meet the criteria of three petitioners employed at the location for which the petition was submitted.

The petitioners have requested that the petition be withdrawn. Consequently, the investigation has been terminated.

Signed at Washington, DC, this 25th day of November 2008.
Richard Church,
Certifying Officer, Division of Trade Adjustment Assistance.

[FR Doc. E8-29167 Filed 12-9-08; 8:45 am]

BILLING CODE 4510-FN-P